NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before January 3, 2005. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: records.mgt@nara.gov.

FAX: 301-837-3698.

Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Forest Service; Department of the Interior, Bureau of Land Management, Fish and Wildlife Service, and National Park Service (N1-95-05-2, 5 items, 3 temporary items). Administrative records relating to operational actions taken in the management of fire incidents on Federal lands. Included are such records as interim status reports, inspection checklists, unit logs, logistics documents, and cost estimates. Also included are electronic copies of records created using electronic mail and word processing. Proposed for permanent retention are recordkeeping copies of individual fire reports and fire package-incident history files, which document significant incidents and events, actions taken, lessons learned and contain other important information on fire suppression and the management of natural resources on Federal lands. This schedule was developed jointly by the Forest Service, the Bureau of Land Management, the Fish and Wildlife Service, and the National Park Service and is applicable to the fire incident records each of these agencies accumulates.

2. Department of Agriculture, Forest Service (N1-95-05-1, 10 items, 6 temporary items). Inputs and outputs associated with the National Interagency Fire Management Integrated Database (NIFMID), an electronic system containing wild land fire reports and weather information. Also included are inputs, outputs, data, and documentation associated with the Fire Statistics System. The data contained in the NIFMID system, which includes information entered from the Fire Statistics System, is proposed for permanent retention along with the related system documentation.

3. Department of Agriculture, Food Safety and Inspection Service (N1-462-04-19, 6 items, 6 temporary items). Inputs, outputs, master files, and system documentation associated with an electronic system used to track the receipt and analysis of lab samples received by the agency. Also included are electronic copies of records created using electronic mail and word processing.

4. Department of the Air Force, Agency-wide (N1-AFU-03-22, 8 items, 8 temporary items). Records relating to offenses resulting in court martial and other disciplinary actions. Also included are electronic copies of records created using electronic mail and word processing. Information included in these records was previously approved for permanent retention in a recordkeeping system maintained by the Defense Manpower Data Center that includes data drawn from all Defense Department components.

5. Department of Homeland Security, Transportation Security Administration (N1-560-04-17, 25 items, 25 temporary items). Records relating to the safety of agency working conditions. Included are such records as technical standards, safety and health investigations files, industrial hygiene assessments, recommendations regarding field operations, safety analysis and prevention programs records, workers compensation claims, employee complaints files, records regarding the collection and disposal of hazardous waste materials at airport screening areas, policy development records, annual reports, program evaluation records, training materials, and other administrative records accumulated by the agency's Office of Occupational Safety, Health and Environment. Also included are electronic copies of records created using electronic mail and word processing.

6. Department of Justice, Federal Bureau of Investigation (N1-65-04-4, 1290 items, 305 temporary items). Comprehensive revision of the agency's records control schedule to include electronic copies of records created using electronic mail and word processing and apply to case files accumulated by lead investigative offices the disposition instructions previously approved for files accumulated at agency headquarters. This change reflects the fact that lead investigative offices now maintain a complete copy of every investigative case file, as opposed to headquarters. This schedule continues to provide for the permanent retention in lead investigative offices of recordkeeping copies of selected case files in investigative case classifications which contained permanent authorities previously. Selection criteria were approved by NARA in earlier agency records disposition schedules.

7. Department of State, Office of the Secretary of State (N1-59-04-8, 1 item, 1 temporary item). Program files of the Ombudsman for Civil Service Employees, an office which is now defunct.

8. Armed Forces Retirement Home, Agency-wide (N1-231-04-01, 10 items, 4 temporary items). Records relating to budget and financial matters. Electronic copies of records created using electronic mail and word processing that are associated with these and other agency activities are included. Proposed for permanent retention are recordkeeping copies of such records as files relating to the agency's mission and organization, publications and reports, still pictures, and files relating budget and finance policy. This schedule authorizes the agency to apply the proposed disposition instructions to records regardless of medium.

9. Environmental Protection Agency, Office of Environmental Information (N1-412-05-1, 7 items, 7 temporary items). Electronic software programs, electronic data, and system documentation associated with the Integrated Error Correction Process Database, which is used in the identification, tracking, and resolution of environmental data errors.

10. Environmental Protection Agency, Office of Solid Waste and Emergency Response (N1-412-05-2, 8 items, 5 temporary items). Electronic software programs, inputs, graphics, and audit and user-defined data associated with an electronic system that contains information relating to risk management plans submitted to the agency pursuant to Section 112(r) of the Clean Air Act. Proposed for permanent retention are electronic versions of risk management plans and executive summaries, along with the related system documentation.

11. Environmental Protection Agency, Office of Solid Waste and Emergency Response (N1-412-05-3, 2 items, 2 temporary items). Records relating to the implementation of risk management plans submitted pursuant to Section 112(r) of the Clean Air Act. Included are such records as risk management plans, facility audit reports, correspondence, and electronic copies of documents created using electronic mail and word processing.

12. General Services Administration, Public Buildings Service (N1-121-04-1, 4 items, 4 temporary items). Case files containing fiscal reports, approval letters, forms, and correspondence relating to capital projects, including imaged copies. Also included are electronic copies of records created using electronic mail or word processing.

13. National Archives and Records Administration, Office of General Counsel (N1-64-05-1, 17 items, 14 temporary items). Files relating to legal operations, including such matters as legal opinions that do not set precedents, litigation that is not historically significant, ethics programs, and Freedom of Information Act activities. Also included are electronic copies of records created using electronic mail and word processing. Proposed for permanent retention are recordkeeping copies of legal opinions that set precedents, significant litigation cases, and policy files relating to the Presidential Records Act.

14. U. S. Commission on Ocean Policy, Agency-wide (N1-220-05-1, 8 items, 4 temporary items). Files accumulated by members of the Commission excluding the chairman, working papers and research materials, electronic copies of records created using electronic mail and word processing, and records relating to the Commission's web site, including content, system documentation, and web site policy and planning records. Proposed for permanent retention are recordkeeping copies of such files as Commission meeting minutes and testimony, annual reports, reports on research projects, and records accumulated by the chairman of the Commission, including correspondence, press releases, and interoffice memorandums.

Dated: November 5, 2004.
Michael J. Kurtz,
Assistant Archivist for Records Services—Washington, DC.

[FR Doc. 04-25329 Filed 11-15-04; 8:45 am]

BILLING CODE 7515-01-P